AGENCY FOR INTERNATIONAL DEVELOPMENT

Notice of Meeting

Pursuant to the Federal Advisory Committee Act, notice is hereby given of a meeting of the Advisory Committee on Voluntary Foreign Aid (ACVFA).

Date: October 17, 2001 (9:00 a.m. to 5:00 p.m.)

Location: Marriott at Metro Center, 775 12th Street, NW., Washington, DC.

This meeting will feature discussion of USAID's strategies for conflict prevention, procurement reform, and HIV/AIDS. Participants will have an opportunity to ask questions of the speakers and to discuss the issues in more depth in small groups.

The meeting is free and open to the public. Persons wishing to attend the meeting can fax or e-mail their name to Noreen O'Meara, 202-216-3041, nomeara@usaid.gov.

Dated: September 14, 2001.
Noreen O'Meara,
Executive Director, Advisory Committee on Voluntary Foreign Aid (ACVFA).

[FR Doc. 01-23663 Filed 9-20-01; 8:45 am]

BILLING CODE 6116-01-M